FEDERAL COMMUNICATIONS COMMISSION

47 CFR Part 73

[DA 02-1812: MB Docket Nos. 02-198, 02-199; RM-10513, RM-10514]

Radio Broadcasting Services; Magnolia, AR and Oil City, LA; Hilton Head Island, Hollywood and Port Royal, SC.

AGENCY: Federal Communications Commission.

ACTION: Proposed rule.

SUMMARY: The Commission seeks comment on proposals in two separate docketed proceedings in a multiple docket Notice of Proposed Rule Making. The first, jointly filed by Apex Broadcasting, Inc., and Monterey Licenses, LLC, proposes to reallot Channel 259C from Port Royal to Hollywood, South Carolina, as the community's first local aural transmission service and modify the license of Station WJZX(FM) to reflect the new community, and reallot Channel 300C2 from Hilton Head Island to Port Royal to retain Port Royal's sole local aural transmission service and modify the license of Station WLOW(FM) to reflect the new community. Channel 259C can be reallotted from Port Royal to Hollywood at Station WJZX(FM)'s current transmitter site 41.2 km (25.6 miles) southwest of the community at coordinates 32-25-10 NL and 80-28-30 WL. Channel 300C2 can be reallotted from Hilton Head Island to Port Royal at Station WLOW(FM)'s current transmitter site 22.3 km (13.9 miles) southwest of the community at coordinates 32-13-36 NL and 80-50-53 WL. The second, filed by Columbia Broadcasting Company, Inc., Substitute Channel 300C2 for 300C1 at Magnolia, Arkansas and reallot Channel 300C2 from Magnolia to Oil City, Louisiana, as the community's first local transmission service, and modify Station KVMA's authorization to specify Oil City as the community of license. Channel 300C2 can be reallotted from Magnolia to Oil City at petitioner's proposed site 27.6 kilometers (17.1 miles) northeast of the community at coordinates 32-54-06 NL and 93-44-01 WL. See Supplementary Information.

DATES: Comments must be filed on or before September 23, 2002, and reply comments must be filed on or before October 8, 2002.

ADDRESSES: Federal Communications Commission, 445 Twelfth Street, SW., Washington, DC 20554. In addition to filing comments with the FCC, interested parties should serve the petitioner, his counsel, or consultant, as follows: Columbia Broadcasting Company, Inc. c/o Mark N. Lipp, J. Thomas Nolan, Shook, Hardy & Bacon, 600 14th Street, NW., Suite 800, Washington, DC 20005; Apex Broadcasting, Inc., c/o Erwin G. Krasnow, Mark N. Lipp, J. Thomas Nolan, Shook, Hardy & Bacon, 600 14th Street, NW., Suite 800, Washington, DC 20005; and Monterey Licenses, LLC, David D. Oxenford, Shaw Pittman LLP, 2300 N Street, NW., Washington, DC 20037.

FOR FURTHER INFORMATION CONTACT: Victoria M. McCauley, Mass Media Bureau, (202) 418-2180.

SUPPLEMENTARY INFORMATION: This is a synopsis of the Commission's Notice of Proposed Rule Making, MB Docket Nos. 02-198, and 02-199, adopted July 17, 2002, and released August 2, 2002. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com. The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by removing Magnolia, Channel 300C1.

3. Section 73.202(b), the Table of FM Allotments under Louisiana, is amended by adding Oil City, Channel 300C2.

4. Section 73.202(b), the Table of FM Allotments under South Carolina is amended by adding Hollywood, Channel 259C, by removing Channel 300C2 at Hilton Head Island, and by removing Channel 259C and adding Channel 300C2 at Port Royal.

Federal Communications Commission.
John A. Karousos,
Assistant Chief, Audio Division, Media Bureau.

[FR Doc. 02-20923 Filed 8-16-02; 8:45 am]

BILLING CODE 6712-01-P